DEPARTMENT OF THE INTERIOR

Bureau of Land Management

[NV-952-05-1420-BJ]

Filing of Plats of Survey; Nevada

AGENCY: Bureau of Land Management.

ACTION: Notice.

SUMMARY: The purpose of this notice is to inform the public and interested State and local government officials of the filing of Plats of Survey in Nevada.

EFFECTIVE DATES: Filing is effective at 10 a.m. on the dates indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Plat of Survey of the following described lands was officially filed at the Nevada State Office, Reno, Nevada, on December 16, 2004:

The plat, in six (6) sheets, representing the dependent resurvey of a portion of the south boundary of T. 14 N., R. 25 E.; a portion of the subdivisional lines and Mineral Survey Nos. 4499, 4531, and 4778, and the subdivision of certain sections, Township 13 North, Range 25 East, Mount Diablo Meridian, Nevada, under Group No. 806, was accepted December 14, 2004. This survey was executed to meet certain administrative needs of the Bureau of Land Management.

2. The above-listed survey is now the basic record for describing the lands for all authorized purposes. This survey has been placed in the open files in the BLM Nevada State Office and is available to the public as a matter of information. Copies of the survey and related field notes may be furnished to the public upon payment of the appropriate fees.

Dated: January 13, 2005.
David D. Morlan,
Chief Cadastral Surveyor, Nevada.

[FR Doc. 05-1260 Filed 1-24-05; 8:45 am]

BILLING CODE 4310-HC-P